DEPARTMENT OF ENERGY

Federal Energy Regulatory Commission

[Docket No. ER00-2268-000]

Pinnacle West Capital Corporation, Arizona Public Service Company and APS Energy Services Company, Inc.; Notice of Issuance of Order

June 26, 2000.

On April 21, 2000, Pinnacle West Capital Corporation ¹ (Pinnacle) filed with the Commission an application seeking: (1) Authority for Pinnacle to engage in wholesale sales of electric power at market-based rates, including sales to its affiliates, and sales of ancillary services within the California Independent System Operator Market; (2) authority for Pinnacle to reassign transmission capacity; (3) approval of revised market-based rate tariffs that would allow APS and APSES to transact business with affiliates at market-based rates; and (4) approval of a code of conduct for Pinnacle and proposed modifications to the codes of conduct of APS and APSES.

¹ Pinnacle submitted the filing on its own behalf and on behalf of its affiliates, APS and APS Energy Services Company. The Commission's Order collectively referred to these three companies as “Pinnacle West Companies”. Pinnacle is the parent corporation of both APS and APSES.

In its filing, Pinnacle requested certain waivers and authorizations for Pinnacle. In particular, Pinnacle requested that the Commission grant blanket approval under 18 CFR part 34 of all future issuances of securities and assumptions of liabilities by Pinnacle. On June 20, 2000, the Commission issued an Order Conditionally Accepting For Filing Proposed Market-Based Rate Tariff And Code Of Conduct, And Revised Market-Based Rate Tariffs And Codes Of Conduct (Order), in the above-docketed proceeding.

The Commission's June 20, 2000 Order granted the request for blanket approval under part 34, subject to the conditions found in Ordering Paragraphs (D), (E), and (G):

(D) Within 30 days of the date of this order, any person desiring to be heard or to protest the Commission's blanket approval of issuances of securities or assumptions of liabilities by Pinnacle should file a motion to intervene or protest with the Federal Energy Regulatory Commission, 888 First Street, NE., Washington, DC 20426, in accordance with Rules 211 and 214 of the Commission's Rules of Practice and Procedure, 18 CFR 385.211 and 385.214.

(E) Absent a request to be heard within the period set forth in Ordering Paragraph (D) above, Pinnacle is hereby authorized to issue securities and assume obligations and liabilities as guarantor, indorser, surety or otherwise in respect of any security of another person; provided that such issue or assumption is for some lawful object within the corporate purposes of Pinnacle, compatible with the public interest, and reasonably necessary or appropriate for such purposes.

(G) The Commission reserves the right to modify this order to require a further showing that neither public nor private interests will be adversely affected by continued Commission approval of Pinnacle's issuances of securities or assumptions of liabilities. * * *

Notice is hereby given that the deadline for filing motions to intervene or protests, as set forth above, is July 20, 2000.

Copies of the full text of the Order are available from the Commission's Public Reference Branch, 888 First Street, NE, Washington, DC 20426. The Order may also be viewed on the Internet at

http://www.ferc.fed.us/online/rims.htm (call 202-208-2222 for assistance).

David P. Boergers,
Secretary.

[FR Doc. 00-16562 Filed 6-29-00; 8:45 am]

BILLING CODE 6717-01-M